DEPARTMENT OF TRANSPORTATION

Federal Highway Administration

Environmental Impact Statement: In the Vicinity of the City and Borough of Juneau, AK

AGENCY: Alaska Department of Transportation and Public Facilities (DOT&PF), Federal Highway Administration (FHWA), DOT.

ACTION: Notice of intent.

SUMMARY: The FHWA, in cooperation with DOT&PF, will prepare a supplemental environmental impact statement (SEIS) for Juneau Access Improvements, a project to improve surface transportation to and from Juneau within the Lynn Canal corridor.

FOR FURTHER INFORMATION CONTACT: Mr. Tim Haugh, Environmental Program Manager, FHWA Alaska Division, P.O. Box 21648, Juneau, Alaska 99802-1648; office hours 6 a.m. to 3:30 p.m. (AST), phone (907) 586-7430; email Tim.Haugh@dot.gov. You may also contact Mr. Reuben Yost, DOT&PF Project Manager, Alaska Department of Transportation and Public Facilities, 6860 Glacier Highway, P.O. Box 112506, Juneau, Alaska 99811-2506; office hours 8:30 a.m. to 5 p.m. (AST), phone (907) 465-1774.

SUPPLEMENTARY INFORMATION: A final environmental impact statement (FEIS) for this project was released on January 18, 2006, and a Record of Decision was approved on April 3, 2006. However, on February 13, 2009, the United States District Court for Alaska determined the FEIS was invalid and vacated the ROD. The SEIS will therefore evaluate a new alternative of improved ferry service using existing assets, as was determined reasonable by the Court. The SEIS will also address any new issues identified and update FEIS alternatives and topics.

The purpose for the project remains the same: to improve surface transportation to and from Juneau within the Lynn Canal corridor to provide travel flexibility, capacity to meet demand, and greater travel opportunity while reducing travel time, state costs, and user costs. In addition to the court ordered alternative, the SEIS will also update the reasonable alternatives evaluated in the FEIS. These include the No Action Alternative (Alternative 1), the East Lynn Highway to Katzehin with Shuttles to Haines and Skagway (Alternative 2B), the West Lynn Canal Highway (Alternative 3), and four primary marine alternatives that would construct new ferries (Alternatives 4A-D). Two of the marine alternatives include a short road extension and a new ferry terminal (Alternatives 4B and 4D).

FHWA anticipates a focused scoping effort prior to commencement of SEIS studies. Letters describing the SEIS process and requesting comments will be sent to appropriate federal, state, and local agencies. Meetings will be held with all Cooperating Agencies and other agencies, as requested. Newspaper notices, newsletters, and Web site postings will explain the SEIS process, describe the new alternative, detail the topics anticipated to be addressed, and request public comments.

Public hearings will be held in Juneau, Haines, Skagway, and Sitka following publication of the draft SEIS. Notice of the hearings and availability of the document will be published in the Federal Register, the Juneau Empire, the Chilkat Valley News, the Skagway News, the Sitka Sentinel, and the Anchorage Daily News. Comments or questions concerning the project and the SEIS should be directed to the FHWA or DOT&PF at the addresses provided.

(Catalog of Federal Domestic Assistance Program Number 20.205, Highway Planning and Construction. The regulations implementing Executive Order 12372 regarding intergovernmental consultation on Federal programs and activities apply to this program.)

Authority: 23 U.S.C. 139(l)(1).

Issued on: January 3, 2012.
David C. Miller,
Division Administrator, Juneau, Alaska.

[FR Doc. 2012-408 Filed 1-11-12; 8:45 am]

BILLING CODE 4910-RY-P